CONSUMER PRODUCT SAFETY COMMISSION

Sunshine Act Meetings

TIME AND DATE: Wednesday, October 23, 2024—10:00 a.m. (See MATTERS TO BE CONSIDERED).

PLACE: The meeting will be held remotely, and in person at 4330 East West Highway, Bethesda, Maryland, 20814.

STATUS: Commission Meeting—Open to the Public

MATTERS TO BE CONSIDERED:

Decisional Matter: Notice of Proposed Rulemaking—Requirements for Neck Floats

To attend the meeting remotely, please use the following link: https://cpsc.webex.com/cpsc/j.php?MTID=m0f3fefc193fcb23633327ffa320d3a04

CONTACT PERSON FOR MORE INFORMATION: Alberta E Mills, Office of the Secretary, U.S. Consumer Product Safety Commission, 4330 East West Highway, Bethesda, MD 20814, 301-504-7479 (Office) or 240-863-8938 (Cell).

Dated: October 16, 2024.
Alberta E. Mills,
Commission Secretary.

[FR Doc. 2024-24362 Filed 10-17-24; 11:15 am]

BILLING CODE P